DEPARTMENT OF THE INTERIOR

Fish and Wildlife Service

Meeting Announcements: North American Wetlands Conservation Council; Neotropical Migratory Bird Conservation Advisory Group

AGENCY: Fish and Wildlife Service, Interior.

ACTION: Notice of meetings.

SUMMARY: The North American Wetlands Conservation Council (Council) will meet to select North American Wetlands Conservation Act (NAWCA) grant proposals for recommendation to the Migratory Bird Conservation Commission (Commission). The meeting is open to the public. The Advisory Group for the Neotropical Migratory Bird Conservation Act (NMBCA) grants program will hold its first meeting. The meeting is open to the public, and interested persons may present oral or written statements.

DATES: Council: July 11, 2006, 1-3 p.m.; Advisory Group: July 10, 2006, 9 a.m.-5 p.m.

ADDRESSES: The meetings will be held at the St. Eugene Mission Resort, Cranbrook, British Columbia, Canada. Meetings are coordinated by the Division of Bird Habitat Conservation, U.S. Fish and Wildlife Service, 4401 N. Fairfax Drive, Mail Stop: MBSP 4501-4075, Arlington, Virginia 22203.

FOR FURTHER INFORMATION CONTACT: David A. Smith, Division Chief, (703) 358-1784 or dbhc@fws.gov.

SUPPLEMENTARY INFORMATION: In accordance with NAWCA (Pub. L. 101-233, 103 Stat. 1968, December 13, 1989, as amended), the State-private-Federal Council meets to consider wetland acquisition, restoration, enhancement, and management projects for recommendation to, and final funding approval by, the Commission. Proposal due dates, application instructions, and eligibility requirements are available through the NAWCA Web site at http://birdhabitat.fws.gov. Proposals require a minimum of 50 percent non-Federal matching funds. Canadian and U.S. Standard grant proposals will be considered at the Council meeting. The tentative date for the Commission meeting is September 13, 2006.

The Advisory Group was named by the Secretary of the Interior pursuant to NMBCA (Pub. L. 106-247, 114 Stat. 593, July 20, 2000) and will hold its first meeting. Proposal due dates, application instructions, and eligibility requirements are available through the NMBCA Web site at http://birdhabitat.fws.gov.

Dated: June 21, 2006.
Paul Schmidt,
Assistant Director—Migratory Birds.

[FR Doc. E6-10443 Filed 7-3-06; 8:45 am]

BILLING CODE 4310-55-P